DEPARTMENT OF HOMELAND SECURITY

Federal Emergency Management Agency

[Docket ID: FEMA-2020-0009; OMB No. 1660-0114]

Agency Information Collection Activities: Proposed Collection; Comment Request; FEMA Preparedness Grants: Port Security Grant Program (PSGP)

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the information collection activities required to administer the Port Security Grant Program (PSGP).

DATES: Comments must be submitted on or before April 13, 2020.

ADDRESSES: To avoid duplicate submissions to the docket, please use only one of the following means to submit comments:

(1) Online. Submit comments at www.regulations.gov under Docket ID FEMA-2020-0009. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Duane Davis, Section Chief, FEMA, Grant Programs Directorate, 202-680-4060, duane.davis@fema.dhs.gov. You may contact the Records Management Division for copies of the proposed collection of information at email address: FEMA-Information-Collections-Management@fema.dhs.gov.

SUPPLEMENTARY INFORMATION: Section 102 of the Maritime Transportation Security Act of 2002, as amended (46 U.S.C. 70107), authorizes the PSGP to provide for the risk-based allocation of funds to implement Area Maritime Transportation Security Plans and facility security plans among port authorities, facility operators, and State and local government agencies required to provide port security services and to train law enforcement personnel under 46 U.S.C. 70132. Before awarding a grant under the program, the Secretary of the Department of Homeland Security shall provide for review and comment by the appropriate Federal Maritime Security Coordinators and the Maritime Administrator. In administering the grant program, the Secretary shall take into account national economic, energy, and strategic defense concerns based upon the most current risk assessments available. In addition, any information collected by FEMA for this program is in accordance with general reporting requirements (see, for example, 2 CFR 200.328); or in accordance with 46 U.S.C. 70107(g), as amended by section 112(c) of the Security and Accountability For Every (SAFE) Port Act of 2006 (Pub. L. 109-347), which provides that entities subject to an Area Maritime Transportation Security Plan may submit an application for a grant under this program at such time, in such form, and containing such information and assurances as the Secretary may require.

Collection of Information

Title: FEMA Preparedness Grants: Port Security Grant Program (PSGP).

Type of Information Collection: Revision of a currently approved information collection.

OMB Number: 1660-0114.

FEMA Forms: FEMA Form 089-5, PSGP Investment Justification; and FEMA Form 088-0-1, Grant Preparedness Division Performance Report (GPD-PR replacing SF-PPR, OMB No. 0970-0334).

Abstract: The previous version of FEMA Form 089-5 presented numerous editing and submission challenges for applicants, often leaving required information blank within the form. Additionally, numerous applicants annually fail to provide required content information within a detailed budget worksheet or provide no detailed budget worksheet at all. A detailed budget worksheet is required, however is not currently in a required template. This update changes the format and software of Form 089-5 and incorporates the detailed budget worksheet to help ensure accurate project accounting. By broadening the form to include all required project information, applicants will have fewer documents to track and submit, and subsequent agency reviews will be streamlined and improve consistency among application format. FEMA has developed a new form, GPD-PR, to replace the SF-PPR for collection of reporting information required by regulation and statute. No changes are being made to the Memorandum of Understanding (MOU) or Memorandum of Agreement (MOA) requirements for layered security projects. FEMA continues to provide a sample template for use by applicants, but there is no required format for an MOU/MOA.

Affected Public: State, Local or Tribal Government; Business or other for-profit and non-profit.

Number of Respondents: 893.

Number of Responses: 1,759.

Estimated Total Annual Burden Hours: 17,450 hours.

Estimated Cost: The estimated annual cost to respondents for the hour burden is $1,299,153. There are no annual costs to respondents' operations and maintenance costs for technical services. There are no annual start-up or capital costs. The cost to the Federal Government is $1,055,219.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director, Information Management Division, Mission Support, Federal Emergency Management Agency, Department of Homeland Security.

[FR Doc. 2020-02710 Filed 2-10-20; 8:45 am]

BILLING CODE 9111-46-P